DEPARTMENT OF TRANSPORTATION

Federal Highway Administration

Environmental Impact Statement: City of Cleveland, Cuyahoga County, OH

AGENCY: Federal Highway Administration (FHWA), DOT.

ACTION: Notice of Intent.

SUMMARY: The FHWA is issuing this notice to advise the public that an Environmental Impact Statement (EIS) will be prepared for a proposed project in the City of Cleveland, Cuyahoga County, Ohio.

FOR FURTHER INFORMATION CONTACT: Victoria Peters, Office Director, Office of Engineering and Operations, Federal Highway Administration, 200 N. High Street, Room 328, Columbus, Ohio 43215, Telephone: (614) 280-6896.

SUPPLEMENTARY INFORMATION: The FHWA, in cooperation with the Ohio Department of Transportation (ODOT), will prepare an EIS for proposed improvements to Interstates 71, 77 and 90, and connecting radial freeways and local roadways, known as the Cleveland Innerbelt. The Cleveland Innerbelt is routed across the Cuyahoga River valley and around the south and east sides of downtown Cleveland, Ohio. The project termini are located approximately at the merge/diverse point of State Route 176, (the Jennings Freeway) and Interstate 71 southwest of downtown, south of the existing Interstate 90/77 Central Interchange on I-77 south of downtown, and east of the Interstate 90/State Route 2 interchange east of downtown along the shore of Lake Erie.

On September 18, 2001 the FHWA issued a Notice of Intent, (66 FR 49448, Sep. 27, 2001), for the Cleveland Innerbelt action, which was in the planning phase of project development, indicating that an Environmental Assessment or EIS would be prepared. Since 2001 project development and public involvement activities have been ongoing. To effectively and efficiently manage the Cleveland Innerbelt Project the FHWA, in cooperation with the ODOT, has decided to prepare an EIS for the proposed Project.

The purpose of the Cleveland Innerbelt Project is to improve the physical condition of the existing bridge decks and roadway pavements, improve the operational performance of the roadway system, improve the safety of the roadway system, and improve the access provided by the roadway system, while supporting community goals and objectives. Alternatives under consideration include: (1) the no-build (Defined as: maintaining/reconstructing the facility in kind); and (2) rehabilitation/upgrading of the existing infrastructure combined with construction of new facilities on modified alignment(s).

Letters describing the proposed Project and soliciting comments will be sent to appropriate Federal, and State, agencies known to have interest in this proposal. Moreover, public involvement activities will continue to facilitate the further development of alternatives, and to identify and quantify the social, economic, and environmental impacts of the proposed Project. A public hearing will be held. Public notice will be given of the time and place of the hearing. The Draft EIS will be available for public and agency review and comment prior to the public hearing.

To ensure that the full range of issues relating to this proposed Project are addressed, and all significant issues identified, comments and suggestions are invited from all interested parties. Comments or questions concerning this proposed Project and the EIS should be sent to the FHWA at the address provided above.

(Catalog of Federal Domestic Assistance Program Number 20.205, Highway Planning and Construction. The regulations implementing Executive Order 12372 regarding intergovernmental consultation on Federal programs and activities apply to this program.)

Issued on: August 31, 2006.
Victoria Peters,
Office Director, Office of Engineering and Operations, Federal Highway Administration, Columbus, Ohio.

[FR Doc. E6-14814 Filed 9-6-06; 8:45 am]

BILLING CODE 4910-22-P